DEPARTMENT OF ENERGY

Federal Energy Regulatory Commission

[Docket No. CP01-69-000]

Petal Gas Storage, L.L.C.; Notice of Intent To Prepare an Environmental Assessment for the Proposed Petal Pipeline Project, and Request for Comments on Environmental Issues

February 22, 2001.

The staff of the Federal Energy Regulatory Commission (FERC or Commission) will prepare an environmental assessment (EA) that will discuss the environmental impacts of Petal Gas Storage, L.L.C.'s (Petal) proposed Phase II Pipeline Project in Forrest, Jones, Jasper, and Clarke Counties, Mississippi.¹ The project would involve the construction and operation of about 59 miles of 36-inch-diameter pipeline, a new 9,000-horsepower (hp) compressor station, and appurtenance facilities. This EA will be used by the Commission in its decision-making process to determine whether the project is in the public convenience and necessity.

¹ Petal's application under section 7(c) of the Natural Gas Act and Part 157 of the Commission's regulations was filed on January 23, 2001.

If you are a landowner receiving this notice, you may be contacted by a Petal representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” should have been attached to the project notice Petal provided to landowners. This fact sheet addresses a number of typically asked questions, including the use of eminent domain and how to participate in the Commission's proceedings. It is available for viewing on the FERC Internet website (www.ferc.fed.us).

This Notice of Intent (NOI) is being sent to landowners along Petal's proposed route; Federal, state, and local government agencies; national elected officials; regional environmental and public interest groups; Indian tribes that might attach religious and cultural significance to historic properties in the area of potential effects; local libraries and newspapers; and the Commission's list of parties to the proceeding. Government representatives are encouraged to notify their constituents of this proposed action and encourage them to comment on their areas of concern. Additionally, with this NOI we are asking Federal, state, local, and tribal agencies with jurisdiction and/or special expertise with respect to environmental issues to cooperate with us in the preparation of the EA. These agencies may choose to participate once they have evaluated Petal's proposal relative to their agencies' responsibilities. Agencies who would like to request cooperating status should follow the instructions for filing comments described below.

Summary of the Proposed Project

Petal's proposed action would consist of the construction and operation of:

• About 58.7 miles of 36-inch-diameter bi-directional pipeline (Petal 100 Line), from Petal's existing storage header and Tennessee Gas Pipeline Company (Tennessee) Meter Station in Forrest County, Mississippi, north through Jones and Jasper Counties to a site near Southern Natural Gas Company's (SNG) existing Enterprise Compressor Station in Clarke County, Mississippi. Petal's proposed 100 Line would be adjacent to Tennessee's existing 500 Line for about 56.2 miles, and then adjacent to existing SNG and Destin Pipeline Company (Destin) pipelines for the remaining 2.5 miles;

• A new 9,000 hp compressor station consisting of two gas driven compressor units, near Heidelberg in Jasper County, Mississippi;

• About 0.3 mile of 36-inch-diameter bi-directional pipeline (Transco Lateral), extending from the proposed Heidelberg Compressor Station to an interconnection with existing facilities of Transcontinental Gas Pipe Line Corporation (Transco) in Jasper County, Mississippi;

• Three new meter stations at the proposed interconnections with Transco, SNG, and Destin;

• A bi-directional pig launcher/receiver trap at the proposed Destin Meter Station in Clarke County, Mississippi; and

• Six mainline block valves along the proposed Petal 100 Line.

The proposed facilities would allow Petal to make deliveries of up to 700,000 decatherms per day (Dth/d), and take receipts of up to 350,000 Dth/d. The facilities would be used for transportation services to and from Petal's existing natural gas storage facilities in Forrest County, Mississippi.

The general location of Petal's proposed facilities is shown on the map attached as appendix 1.²

² The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of Petal's proposed facilities would affect a total of about 965 acres of land. Following construction, about 222 acres would be retained as permanent right-of-way. The remaining 743 acres of temporary work space would be restored and allowed to revert to its former use.

The nominal construction right-of-way for both Petal's proposed 100 Line and the Transco Lateral would be 100 feet wide, with 30 feet retained as permanent right-of-way for Petal's 100 Line and 25 feet of new permanent easement for the Transco Lateral. About 98 percent of the route of the pipelines would overlap existing easements. For about 1.26 miles Petal's 100 Line would deviate away from existing rights-of-way for certain road or railroad crossings, to avoid existing utility facilities, and to avoid impacts on sensitive environmental areas, such as a pond or creek. The use of 66 access roads during construction would temporarily affect about 50 acres. Also, Petal would temporarily use 11 pipe storage and contractor yards, covering a total of about 175 acres, during construction.

The proposed aboveground facilities would consist of a new compressor station, three new meter stations, and six mainline block valves. The proposed Heidelberg compressor station would cover about 8 acres, of which only 6 acres would be used for operation. The proposed Transco Meter Station would occupy 0.1 acre within the new Heidelberg Compressor Station. Although Petal would acquire a 9-acre tract for the SNG and Destin Meter Stations, near SNG's existing Enterprise Compressor Station, the construction and operation of these two new adjacent meter stations would affect a total of about 1 acre. The six mainline valves would disturb a total of about 2 acres within the pipeline construction right-of-way, and would permanently occupy about 0.2 acre combined within the pipeline's permanent operation easement.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this NOI, the Commission requests public comments on the scope of the issues it will address in the EA. All comments received are considered during the preparation of the EA.

³ “Us,” “we,” and “our” refer to the environmental staff of the FERC's Office of Energy Projects.

Our independent analysis of the issues will be in the EA. Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed project. We have already identified a number of issues that we think deserve attention based on a preliminary review of the proposed facilities and the environmental information provided by Petal. This preliminary list of issues may be changed based on your comments and our analysis.

• Geology and Soils

—Crossing about 20 miles of prime farm land.

—Crossing about 15 miles of erosion prone soils.

• Water Resources and Wetlands

—Crossing 103 perennial and 113 intermittent streams, and 2 ponds.

—Crossing 276 wetlands, including 81 acres of forested wetlands.

• Vegetation and Wildlife

—Crossing about 34.3 miles of upland forest.

—Potential impacts on federally listed threatened gopher tortoise.

• Cultural Resources

—Potential impacts on 30 cultural resources.

—Portion of the project would be adjacent to the Mississippi Band of Choctaw Indians Reservation.

• Land use

—Crossing about 8.5 miles of agricultural land, including one pecan plantation;

—Crossing two Conservation Reserve Program parcels, and one private hunting ranch.

• Air and Noise Quality

—Impacts on local quality and noise environment as a result of the new compressor station.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: David P. Boergers, Secretary Federal Energy Regulatory Commission, 888 First St., NE., Room 1A Washington, DC 20426;

• Label one copy of the comments for the attention of the Gas/Hydro Group, PJ-11.3;

• Reference Docket No. CP01-69-000; and

• Mail your comments so that they will be received in Washington, DC on or before March 30, 2001.

Comments and protests may be filed electronically via the Internet in lieu of paper. See 18 CFR 385.2001(a)(1)(iii) and the instructions on the Commission's web site at http://www.ferc.fed.us/efi/doorbell.htm.

[If you do not want to send comments at this time but still want to remain on our mailing list, please return the Information Request (appendix 3). If you do not return the Information Request, you will be removed from the environmental mailing list.]

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 01-4815 Filed 2-27-01; 8:45 am]

BILLING CODE 6717-01-M